DEPARTMENT OF THE INTERIOR

Bureau of Land Management

[CO-921-05-1320-EL; COC 68482]

Notice of Invitation for Coal Exploration License Application, Oxbow Mining, LLC. COC 68482; Colorado

AGENCY: Bureau of Land Management, Interior.

ACTION: Notice.

SUMMARY: Pursuant to the Mineral Leasing Act of February 25, 1920, as amended, and to Title 43, Code of Federal Regulations, Subpart 3410, members of the public are hereby invited to participate with Oxbow Mining, LLC, in a program for the exploration of unleased coal deposits owned by the United States of America containing approximately 491.15 acres in Gunnison and Delta Counties, Colorado.

DATES: Written Notice of Intent to Participate, including serial number COC 68482 should be addressed to the attention of the following persons and both must receive the notice by July 5, 2005.

ADDRESSES: Karen Zurek, CO-921, Solid Minerals Staff, Division of Energy, Lands and Minerals, Colorado State Office, Bureau of Land Management, 2850 Youngfield Street, Lakewood, Colorado 80215; and, James A. Kiger, Oxbow Mining, LLC, P.O. Box 535, Somerset, Colorado 81434.

FOR FURTHER INFORMATION CONTACT: Karen Zurek at (303) 239-3795.

SUPPLEMENTARY INFORMATION: The application for coal exploration license is available for public inspection during normal business hours under serial number COC 68482 at the Bureau of Land Management, Colorado State Office, 2850 Youngfield Street, Lakewood, Colorado 80215, and at the Uncompahgre Field Office, 2505 South Townsend Avenue, Montrose, Colorado 81401. Any party electing to participate in this program must share all costs on a pro rata basis with Oxbow Mining, LLC, and with any other party or parties who elect to participate.

Dated: March 1, 2005.
Karen Zurek,
Solid Minerals Staff, Division of Energy, Lands and Minerals.

[FR Doc. 05-10924 Filed 6-1-05; 8:45 am]

BILLING CODE 4310-JB-P